DEPARTMENT OF THE INTERIOR

Fish and Wildlife Service

Draft Recovery Plan for the Ivory-billed Woodpecker (Campephilus principalis)

AGENCY: Fish and Wildlife Service, Interior.

ACTION: Notice of document availability for review and comment.

SUMMARY: The U.S. Fish and Wildlife Service (“we”) announce the availability of the Draft Recovery Plan for the Ivory-billed Woodpecker (Campephilus principalis). This draft recovery plan includes specific criteria and measures that should be taken in order to effectively recover the species to the point where delisting is warranted under the Endangered Species Act of 1973, as amended (Act). We solicit review and comment from local, State, and Federal agencies and the public on this draft recovery plan.

DATES: Comments on the draft recovery plan must be received on or before October 22, 2007.

ADDRESSES: Copies of the draft recovery plan are available by request from the Lafayette Field Office of the U.S. Fish and Wildlife Service, 646 Cajundome Boulevard, Suite 400, Lafayette, Louisiana 70506, or by visiting our recovery plan Web site at http://endangered.fws.gov/recovery/index.html#plans. If you wish to comment, you may submit your comments by one of the following methods:

1. You may mail or hand-deliver written comments and materials to the Field Supervisor, at the above address or;

2. You may fax your comments to 337-291-3139.

Comments and materials received are available for public inspection on request, by appointment, during normal business hours at the above address.

FOR FURTHER INFORMATION CONTACT: Deborah Fuller, at the above address, or telephone 337-291-3100.

SUPPLEMENTARY INFORMATION: Restoring listed animals and plants to the point where they are again secure, self-sustaining components of their ecosystems is a primary goal of our threatened and endangered species program. To help guide the recovery effort, we prepare recovery plans for listed species native to the United States, pursuant to section 4(f) of the Act, unless such a plan would not promote the conservation of a particular species. Recovery plans describe actions that may be necessary for conservation of the species, establish criteria for reclassification from endangered to threatened status or removal from the list of threatened and endangered species, and estimate the time and cost for implementing the needed recovery measures.

The Ivory-billed woodpecker is extremely rare and was, until recently, commonly accepted as extirpated from its known range in the United States. The species appeared to be widely distributed throughout the southeast prior to European settlement. The Ivory-billed woodpecker's disappearance is closely linked with logging and clearing of the contiguous forest habitats which once covered much of the southeastern United States. Additionally, as habitats became fragmented and the species increasingly rare, collecting and direct mortality may have extirpated the bird in certain areas.

Despite having been listed since 1967, no recovery plan was prepared, in large part due to the lack of any clear, undisputed evidence (since 1944) of the species' continued existence. Evidence supporting the presence of at least one bird in the Bayou de View area of Cache River National Wildlife Refuge in 2004, as well as additional information, has generated the need to complete a recovery plan. Given the limited information on the current number of individuals throughout the species' range and the limited knowledge on biology, habitat requirements, and genetic information, we recognize the need to generate scientific information to better address the threats and limiting factors to this species and to develop additional specific recovery criteria.

The recovery strategy will initially focus on learning more about the species' status and ecology, including documenting known locations and characterizing these habitats. Population goals are not identified, but are acknowledged as key to recovery. Current efforts include development of models and additional research that will generate these spatially explicit population goals.

Recovery Objectives: The recovery plan identifies actions needed to achieve long-term viability for the Ivory-billed woodpecker and focuses on these goals:

1. Management to reduce risks to the existing population,

2. Protection and enhancement of suitable habitat, and;

3. Actions to reduce or eliminate threats sufficient to allow restoration of additional wild populations.

The emphasis for recovery will be on the distribution of additional viable populations in the historic range of the species. Discovery, documentation, and subsequent management of additional populations meet scientifically accepted goals for the promotion of viable populations of listed species.

Recovery Criteria:

1. Determine current habitat use and needs of existing populations.

2. Survey potential habitats for new occurrences.

3. Conserve and enhance habitat on public land. Add additional acreage to public habitat inventory via land acquisition from willing sellers.

4. Conserve and enhance habitat on private lands through the use of agreements, conservation easements, habitat conservation plans, and public outreach to facilitate appropriate management actions.

5. Determine viability of existing populations (numbers, breeding success, population genetics, and ecology).

6. Determine the number and geographic distribution of subpopulations needed for a self-sustaining metapopulation and evaluate suitable habitat for species reintroduction.

At present there is limited information on the current population abundance, distribution, habitat requirements, and biology. More specific, quantifiable criteria for downlisting and delisting this species will be developed as additional knowledge concerning these critical attributes is acquired.

Public Comments Solicited

We solicit written comments on the recovery plan described. We will consider all comments received by the date specified in DATES section prior to a decision on final approval of the revised recovery plan.

Our practice is to make all comments, including names and home addresses of respondents, available for public review during regular business hours. Individual respondents may request that we withhold their home addresses from the record, which we will honor to the extent allowable by law. In some circumstances, we would withhold also from the record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority

The authority for this action is section 4(f) of the Endangered Species Act, 16 U.S.C. 1533(f).

Dated: April 10, 2007.
Cynthia K. Dohner,
Acting Regional Director, Southeast Region.

Editorial Note: This document was received at the Office of the Federal Register on August 17, 2007.

[FR Doc. E7-16622 Filed 8-21-07; 8:45 am]

BILLING CODE 4310-55-P